DEPARTMENT OF COMMERCE

Economics and Statistics Administration

Bureau of Economic Analysis Advisory Committee

AGENCY: Bureau of Economic Analysis, Commerce.

ACTION: Notice of public meeting.

SUMMARY: :Pursuant to the Federal Advisory Committee Act (Public Law 92-463, as amended by Public Law 94-409, Public Law 96-523, and Public Law 97-375), we are giving notice of a meeting of the Bureau of Economic Analysis Advisory Committee. The meeting's agenda is as follows: 1. Discussion of issues and options related to further integration of the industry accounts, including the input-output and gross product originating accounts, with the regional and national accounts. 2. Presentation of research on alternative measures of personal saving and wealth accumulation. 3. Discussion of priorities in the international economic accounts area, including work currently underway and still required. 4. Discussion of topics for future agendas.

DATES: On Friday, November 17, 2000, the meeting will begin at 9:30 a.m. and adjourn at approximately 4 p.m.

ADDRESSES: The meeting will take place at BEA, 2nd floor, Conference Room C&D, 1441 L Street, NW., Washington, DC 20230.

FOR FURTHER INFORMATION CONTACT: J. Steven Landefeld, Director, Bureau of Economic Analysis, U.S. Department of Commerce, Washington, DC 20230; telephone: 202-606-9600.

Public Participation: This meeting is open to the public. Because of security procedures, anyone planning to attend the meeting must contact Colleen Ryan of BEA at 202-606-9603 in advance. The meeting is physically accessible to people with disabilities. Requests for sign language interpretation or other auxiliary aids should be directed to Colleen Ryan at 202-606-9603.

SUPPLEMENTARY INFORMATION: The Committee was established on September 2, 1999, to advise the Bureau of Economic Analysis (BEA) on matters related to the development and improvement of BEA's national, regional, and international economic accounts. This will be the Committee's second meeting.

Dated: September 19, 2000.
J. Steven Landefeld,
Director, Bureau of Economic Analysis.

[FR Doc. 00-25002 Filed 9-28-00; 8:45 am]

BILLING CODE 3510-06-M